DEPARTMENT OF TRANSPORTATION

Federal Aviation Administration

14 CFR Part 39

[Docket No. FAA-2011-0385; Directorate Identifier 2010-NM-256-AD]

RIN 2120-AA64

Airworthiness Directives; Airbus Model A330-200, A330-300, A340-300, A340-500, and A340-600 Series Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

During a Back-up Control Module (BCM) retrofit campaign * * *, some BCMs have been found with loose gyrometer screws.

* * * When the aeroplane is in control back up configuration (considered to be an extremely remote case), an oscillation of the BCM output order may cause degradation of the BCM piloting laws, potentially leading to erratic motion of the rudder and possible subsequent impact on the Dutch Roll, which constitutes an unsafe condition.

* * * * *

* * * [S]everal Pedal Feel Trim Units (PFTU) have been found with loose or broken screws during the accomplishment of maintenance tasks on A330 fitted with electrical rudder and A340-600. The loose or failed screws could lead to the loss of the coupling between the Rotary Variable Differential Transducer (RVDT) shaft and the PFTU shaft, and consequently to a potential rudder runaway when the BCM is activated.

* * * * *

The unsafe condition is loss of control of the airplane. The proposed AD would require actions that are intended to address the unsafe condition described in the MCAI.

DATES: We must receive comments on this proposed AD by June 10, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Airbus SAS—Airworthiness Office—EAL, 1 Rond Point Maurice Bellonte, 31707 Blagnac Cedex, France; telephone +33 5 61 93 36 96; fax +33 5 61 93 45 80; e-mail airworthiness.A330-A340@airbus.com; Internet http://www.airbus.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1149.

SUPPLEMENTARY INFORMATION:

Comments Invited

We invite you to send any written relevant data, views, or arguments about this proposed AD. Send your comments to an address listed under the ADDRESSES section. Include “Docket No. FAA-2011-0385; Directorate Identifier 2010-NM-256-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2010-0191, dated September 27, 2010 [Corrected October 7, 2010] (referred to after this as “the MCAI”), to correct an unsafe condition for the specified products. The MCAI states:

During a Back-up Control Module (BCM) retrofit campaign in accordance with EASA AD 2006-0313 requirements, some BCMs have been found with loose gyrometer screws.

The gyrometer is installed on the DELRIN plate by internal screws and the DELRIN plate is installed on BCM casing by external screws.

Investigations done by the BCM manufacturer SAGEM have shown that the root cause of these events is a lack of design robustness of the BCM. When the aeroplane is in control back up configuration (considered to be an extremely remote case), an oscillation of the BCM output order may cause degradation of the BCM piloting laws, potentially leading to erratic motion of the rudder and possible subsequent impact on the Dutch Roll, which constitutes an unsafe condition.

EASA AD 2008-0131 was issued to prohibit aeroplane dispatch with FCPC3 inoperative (from GO IF to NO GO) as an interim solution, limited to A330 and A340-300 fitted with electrical rudder.

After EASA AD 2008-0131 issuance, several Pedal Feel Trim Units (PFTU) have been found with loose or broken screws during the accomplishment of maintenance tasks on A330 fitted with electrical rudder and A340-600. The loose or failed screws could lead to the loss of the coupling between the Rotary Variable Differential Transducer (RVDT) shaft and the PFTU shaft, and consequently to a potential rudder runaway when the BCM is activated.

EASA AD 2009-0153 retained the requirements of EASA AD 2008-0131 and extended the applicability to A340-500/-600 aeroplanes.

This [EASA] AD, which supersedes EASA AD 2009-0153 retaining its requirements, requires the installation of:

—a new BCM on A330 and A340-300 series aeroplanes fitted with electrical rudder, and

—an improved PFTU on A330 and A340-300 series aeroplanes fitted with an electrical rudder and A340-500/-600 series aeroplanes,

which, once installed, eliminate the root cause of the unsafe condition and cancel the operational limitation.

* * * * *

The unsafe condition is loss of control of the airplane. You may obtain further information by examining the MCAI in the AD docket.

Relevant Service Information

Airbus has issued the service bulletins in the following table.

Service Bulletins
Document | Date
Airbus Mandatory Service Bulletin A330-27-3169 | May 3, 2010.
Airbus Mandatory Service Bulletin A340-27-4167 | May 3, 2010.
Airbus Mandatory Service Bulletin A340-27-5053 | May 3, 2010.
Airbus Service Bulletin A330-27-3161 | November 6, 2009.
Airbus Service Bulletin A340-27-4160 | November 6, 2009.

The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a Note within the proposed AD.

Costs of Compliance

Based on the service information, we estimate that this proposed AD would affect about 46 products of U.S. registry. We also estimate that it would take about 17 work-hours per product to comply with the basic requirements of this proposed AD. The average labor rate is $85 per work-hour. Required parts would cost about $0 per product. Where the service information lists required parts costs that are covered under warranty, we have assumed that there will be no charge for these costs. As we do not control warranty coverage for affected parties, some parties may incur costs higher than estimated here. Based on these figures, we estimate the cost of the proposed AD on U.S. operators to be $66,470, or $1,445 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2011-0385; Directorate Identifier 2010-NM-256-AD.

Comments Due Date

(a) We must receive comments by June 10, 2011.

Affected ADs

(b) None.

Applicability

(c) This AD applies to airplanes in paragraphs (c)(1), (c)(2), and (c)(3) of this AD, certificated in any category.

(1) Airbus Model A330-201, -202, -203, -223, -223F, -243, -243F, -301, -302, -303, -321, -322, -323, -341, -342, and -343 airplanes, all manufacturer serial numbers on which Airbus modification 49144 (install electrical rudder) has been embodied in production, except those on which Airbus modification 58118 and Airbus modification 200667 have been embodied in production.

(2) Airbus Model A340-311, -312, and -313 airplanes, all manufacturer serial numbers on which Airbus modification 49144 has been embodied in production, except those on which Airbus modification 58118 and Airbus modification 200667 have been embodied in production.

(3) Airbus Model A340-541 and -642 airplanes, all manufacturer serial numbers, except those on which Airbus modification 200667 has been embodied in production.

Subject

(d) Air Transport Association (ATA) of America Code 27: Flight Controls.

Reason

(e) The mandatory continuing airworthiness information (MCAI) states:

During a Back-up Control Module (BCM) retrofit campaign * * *, some BCMs have been found with loose gyrometer screws.

* * * When the aeroplane is in control back up configuration (considered to be an extremely remote case), an oscillation of the BCM output order may cause degradation of the BCM piloting laws, potentially leading to erratic motion of the rudder and possible subsequent impact on the Dutch Roll, which constitutes an unsafe condition.

* * * * *

* * * [S]everal Pedal Feel Trim Units (PFTU) have been found with loose or broken screws during the accomplishment of maintenance tasks on A330 fitted with electrical rudder and A340-600. The loose or failed screws could lead to the loss of the coupling between the Rotary Variable Differential Transducer (RVDT) shaft and the PFTU shaft, and consequently to a potential rudder runaway when the BCM is activated.

* * * * *

The unsafe condition is loss of control of the airplane.

Compliance

(f) You are responsible for having the actions required by this AD performed within the compliance times specified, unless the actions have already been done.

Dispatch Prohibition

(g) As of the effective date of this AD, dispatch with the flight control primary computer (FCPC) 3 ‘PRIM 3’ inoperative is prohibited unless the applicable modifications required by this AD have been done within the compliance time in this AD.

Airplane Flight Manual Revision

(h) Within 30 days after the effective date of this AD, revise the Limitations section of the Airbus A330 or A340 airplane flight manual (AFM), as applicable, to include the following statement: “Dispatch with the flight control primary computer (FCPC) 3 ‘PRIM 3’ inoperative is prohibited.” This may be done by inserting a copy of this AD into the AFM.

Note 1: When a statement identical to that in paragraph (h) of this AD has been included in the general revisions of the AFM, the general revisions may be inserted into the AFM, and the copy of this AD may be removed from the AFM.

Modification

(i) For Airbus Model A330-201, -202, -203, -223, -223F, -243, -243F, -301, -302, -303, -321, -322, -323, -341, -342, -343, and A340-311, -312, and -313 series airplanes, within 48 months after the effective date of this AD, do the actions specified in paragraphs (i)(1) and (i)(2) of this AD:

(1) Modify the BCM, in accordance with the Accomplishment Instructions of Airbus Service Bulletin A330-27-3161 (for Model A330-201, -202, -203, -223, -223F, -243, -243F, -301, -302, -303, -321, -322, -323, -341, -342, -343 airplanes) or A340-27-4160 (for Model A340-311, -312, and -313 airplanes), both dated November 6, 2009, as applicable.

(2) Modify the PFTU, in accordance with the Accomplishment Instructions of Airbus Mandatory Service Bulletin A330-27-3169 or A340-27-4167, both dated May 3, 2010, as applicable.

(j) For Airbus Model 340-541 and -642 airplanes: Within 48 months after the effective date of this AD, modify the PFTU, in accordance with the Accomplishment Instructions of Airbus Mandatory Service Bulletin A340-27-5053, dated May 3, 2010.

Terminating Action

(k) Modifying both the BCM and PFTU as required by paragraphs (i)(1) and (i)(2) of this AD, terminates the requirements of paragraphs (g) and (h) of this AD.

(l) Modifying the PFTU as required by paragraph (j) of this AD, terminates the requirements in paragraphs (g) and (h) of this AD.

FAA AD Differences

Note 2: This AD differs from the MCAI and/or service information as follows: No differences.

Other FAA AD Provisions

(m) The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to Attn: Vladimir Ulyanov, Aerospace Engineer, International Branch, ANM-116, Transport Airplane Directorate, FAA, 1601 Lind Avenue, SW., Renton, Washington 98057-3356; telephone (425) 227-1138; fax (425) 227-1149. Information may be e-mailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(n) Refer to MCAI European Aviation Safety Agency Airworthiness Directive 2010-0191, dated September 27, 2010 [Corrected October 7, 2010], and the service bulletins listed in table 1 of this AD, for related information.

Table 1—Airbus Service Bulletins
Document | Date
Airbus Mandatory Service Bulletin A330-27-3169 | May 3, 2010.
Airbus Mandatory Service Bulletin A340-27-4167 | May 3, 2010.
Airbus Mandatory Service Bulletin A340-27-5053 | May 3, 2010.
Airbus Service Bulletin A330-27-3161 | November 6, 2009.
Airbus Service Bulletin A340-27-4160 | November 6, 2009.

Issued in Renton, Washington, on April 18, 2011.
Kalene C. Yanamura,
Acting Manager, Transport Airplane Directorate, Aircraft Certification Service.

[FR Doc. 2011-10007 Filed 4-25-11; 8:45 am]

BILLING CODE 4910-13-P